DEPARTMENT OF THE INTERIOR

Minerals Management Service

Cape Wind Energy Project

AGENCY: Minerals Management Service (MMS), Interior.

ACTION: Notice of Availability (NOA) of Draft Environmental Impact Statement and Public Hearings for the Cape Wind Energy Project, Nantucket Sound, Massachusetts.

SUMMARY: The Minerals Management Service (MMS) is announcing the availability of a draft environmental impact statement (EIS) for the Cape Wind Energy Project. Cape Wind Associates, LLC (CWA) has requested a lease, easement or right-of-way pursuant to section 8(p) of the Outer Continental Shelf Lands Act (OCSLA) (43 U.S.C 1337) as amended, and proposes to construct and operate a wind energy facility on the Outer Continental Shelf (OCS) in Nantucket Sound, Massachusetts. The purpose of the proposed project is to provide a renewable energy facility that utilizes the unique wind resources offshore of New England, using a technology that is currently available, technically feasible, and economically viable. The project ostensibly is designed to interconnect with and deliver electricity to the New England Power Pool (NEPOOL) grid, making a substantial contribution to enhancing the region's electrical reliability and achieving renewable energy requirements under the Massachusetts and regional renewable portfolio standards (RPS). The draft EIS is intended to inform the public of the proposed action and alternatives, including the “no action” alternative; address public comment received during the scoping period; analyze the direct, indirect, and cumulative environmental effects of the proposed action and each of the reasonable alternatives; and provide information to support decision-making. The MMS invites comment on the draft EIS.

Authority: This NOA and notice of public hearings is published pursuant to the National Environmental Policy Act (NEPA) of 1969 as amended (42 U.S.C. 4321 et seq. (1988)) and regulations (40 CFR 1506.6) implementing the provisions of NEPA.

SUPPLEMENTARY INFORMATION: The MMS has received a request from CWA for a lease, easement or right-of-way to construct and operate a wind energy project on Horseshoe Shoal on the OCS in Nantucket Sound, Massachusetts. The proposed project would consist of 130 offshore wind turbine generators arranged to maximize the project's full potential electric output of approximately 468 megawatts. Each turbine would be 440 feet high. The array would occupy 25 square miles approximately 5 miles off shore, in a grid where the distance between each turbine is proposed to be one-third mile from north to south and one-half mile from east to west. The wind-generated electricity from each of the turbines would be transmitted via a 33 kilovolt submarine transmission cable system to a centrally located electric service platform. This platform would transform and transmit electric power via two 115 kilovolt lines extending over 12 miles to the Cape Cod mainland, where it would ultimately connect with the existing power grid.

In November 2001, CWA filed a permit application with the U.S. Army Corps of Engineers (USACE), New England District, under section 10 of the Rivers and Harbors Act of 1899, in anticipation of constructing a wind project located on Horseshoe Shoal in Nantucket Sound, Massachusetts. The USACE released a draft EIS concerning issuance of the section 10 permit in November 2004.

Subsequently, section 388 of the Energy Policy Act of 2005 (EPAct) amended the OCSLA to give the Department of the Interior authority for issuing leases, easements, or rights-of-way for alternative energy projects on the OCS. Additional information on the MMS Renewable Energy and Alternate Use Program can be found at http://www.mms.gov/offshore/RenewableEnergy/RenewableEnergyMain.htm.

After reviewing the draft EIS prepared by the USACE, which was completed prior to the EPAct amendment of the OCSLA, the MMS prepared its own EIS analyzing the potential impacts of the project under the broader authority granted to it under the OCSLA, as amended. The MMS launched a renewed scoping process by publishing in the Federal Register (71 FR 30693) on May 30, 2006, a notice of intent (NOI) to prepare this draft EIS. The 1,321 public comments received in response to that notice were considered and are taken into account in the draft EIS. The MMS also considered and took into account over 5000 public comments made during the review period for the USACE draft EIS, as well as those made at USACE public hearings held in Yarmouth, Martha's Vineyard, Cambridge and Nantucket, Massachusetts.

Alongside the application of NEPA, the Massachusetts Environmental Policy Act (MEPA) applies to the proposed project's upland and submarine cable system components in Nantucket Sound out to the 3 nautical-mile State/Federal boundary. On February 15, 2007, the applicant filed its Final Environmental Impact Review (FEIR) with Massachusetts under MEPA procedures. On March 29, 2007, the Massachusetts Secretary of Environmental Affairs certified that the FEIR adequately and properly complies with MEPA.

Contents of the Draft EIS: The draft EIS considers all reasonable alternatives to the proposed action, including other sites in the New England region, non-geographic alternatives at the proposed Horseshoe Shoal site made up of a smaller project alternative, a condensed configuration, phased development, and the no-action alternative. Seven alternatives—the proposed action, no action, a smaller project, condensed configuration, phased development, and alternative sites at Monomoy Shoals and south of Tuckernuck Island—are subjected to detailed analysis in this draft EIS, including an analysis of direct, indirect, and cumulative environmental effects.

EIS Availability: To obtain a single printed or CD-ndash;ROM copy of the draft EIS, you may contact the Minerals Management Service, Environmental Assessment Branch (MS 4042), 381 Elden Street, Herndon, Virginia 20170. An electronic copy of the draft EIS is available at the MMS's Internet Web site at http://www.mms.gov/offshore/RenewableEnergy/CapeWind.htm, as are electronic copies of attachments to the draft EIS and reports used in its preparation. For a list of libraries in Massachusetts that were provided copies of the draft EIS, visit MMS's Internet Web site at http://www.mms.gov/library/ or contact MMS at the coordinates indicated below under the heading “Further Information.”

Public Hearings: The MMS will hold public hearings to receive comments on the draft EIS. The public hearings are scheduled as follows:

• Monday, March 10, 2008, at Mattacheese Middle School Auditorium, 400 Higgins-Crowell Road, West Yarmouth, Massachusetts, 6 p.m.

• Tuesday, March 11, 2008, at Nantucket High School Auditorium, 10 Surfside Road, Nantucket, Massachusetts, 5 p.m.

• Wednesday, March 12, 2008, at Martha's Vineyard Regional High School Auditorium, 100 Edgartown-Vineyard Haven Road, Oak Bluffs, Massachusetts, 5 p.m.

• Thursday, March 13, 2008, at Campus Center Ballroom, University of Massachusetts, Boston, 100 Morrissey Boulevard, South Boston, Massachusetts, 6 p.m.

If you wish to testify at a hearing, you should register at the site of the hearing as soon as you arrive or pre-register by calling 703-787-1300. Written statements submitted at a hearing will be considered part of the hearing record. If you are unable to attend the hearings, you may submit written statements (see below).

Comments: Federal, state, local government agencies, and other interested parties are requested to provide their written comments on the draft EIS in one of the following three ways:

1. Electronically using MMS's on-line commenting system at http://ocsconnect.mms.gov/pcs-public/. This is the preferred method for commenting.

2. In written form, mailed or delivered to MMS Cape Wind Energy Project, TRC Environmental Corporation, Wannalancit Mills, 650 Suffolk Street, Lowell, Massachusetts 01854.

3. In person at the public hearings.

Comments should be submitted no later than insert date 60 days after date of publication of NOA.

Public Comment Policy: Be advised that your entire comment—including your personal identifying information—may be made publicly available at any time. While you can ask us in your comment to withhold from public review your personal identifying information, we cannot guarantee that we will be able to do so.

FOR FURTHER INFORMATION CONTACT: Mr. James F. Bennett, Minerals Management Service, Environmental Assessment Branch, 381 Elden Street, Mail Stop 4042, Herndon, Virginia 20710, or by phone at (703) 787-1656, or Dr. Rodney E. Cluck, Minerals Management Service, Alternative Energy Program, 381 Elden Street, Mail Stop 4080, Herndon Virginia 20170, or by phone at (703) 787-1300.

Dated: January 14, 2008.
Chris C. Oynes,
Associate Director for Offshore Minerals Management.

[FR Doc. E8-845 Filed 1-17-08; 8:45 am]

BILLING CODE 4310-MR-P